DEPARTMENT OF TRANSPORTATION

Surface Transportation Board

[Docket No. FD 35797]

Union County Industrial Railroad Company—Operation Exemption—SEDA-COG Joint Rail Authority

Union County Industrial Railroad Company (UCIR), a Class III rail carrier, has filed a verified notice of exemption under 49 CFR 1150.41 to operate approximately 4.07 miles of track known as the West Deer Extension Track, from milepost 173.605 to milepost 177.67 in Union County, Pa. (the Line).¹ The Line is currently owned or leased by SEDA-COG Joint Rail Authority, a Pennsylvania Municipal Authority.

¹ Counsel for UCIR has indicated that UCIR promptly will file a copy of the operating agreement that UCIR has entered into with SEDA-COG Joint Rail Authority, a noncarrier. See Anthony Macrie—Continuance in Control Exemption—N.J. Seashore Lines, Inc., FD 35296, slip op. at 3-4 (STB served Aug. 31, 2010).

The transaction may be consummated on or after January 25, 2014 (30 days after the notice of exemption was filed).

UCIR certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than January 17, 2014 (at least seven days before the exemption becomes effective).

An original and 10 copies of all pleadings, referring to Docket No. FD 35797, must be filed with the Surface Transportation Board, 395 E Street SW., Washington, DC 20423-0001. In addition, a copy of each pleading must be served on Richard R. Wilson, Esq., 518 N. Center Street, Suite 1, Ebensburg, PA 15931.

Board decisions and notices are available on our Web site at “WWW.STB.DOT.GOV”.

Decided: January 7, 2014.
By the Board, Rachel D. Campbell, Director, Office of Proceedings.
Raina S. White,
Clearance Clerk.

[FR Doc. 2014-00288 Filed 1-9-14; 8:45 am]

BILLING CODE 4915-01-P